DEPARTMENT OF DEFENSE

Department of the Air Force

HQ USAF Scientific Advisory Board

AGENCY: Department of the Air Force, DoD.

ACTION: Notice of meeting.

SUMMARY: Pursuant to Public Law 92-463, notice is hereby given of the forthcoming meeting of the Operational Architecture Panel from the Predictive Battlespace Awareness (PBA) to improve Military Effectiveness Study. The purpose of the meeting is to allow the SAB and study leadership to further discuss operational architecture issues at a classified level. This meeting will be closed to the public.

DATES: 28-30 May 2002.

ADDRESSES: (TBD) Wilson Blvd, Rosslyn VA 20330.

FOR FURTHER INFORMATION CONTACT: Colonel Marian Alexander, Air Force Scientific Advisory Board Secretariat, 1180 Air Force Pentagon, Rm 5D982, Washington DC 20330-1180, (703) 697-4811.

Pamela D. Fitzgerald,
Air Force Federal Register Liaison Officer.

[FR Doc. 02-12329 Filed 5-16-02; 8:45 am]

BILLING CODE 5001-05-P